DEPARTMENT OF COMMERCE

National Oceanic and Atmospheric Administration

50 CFR Part 665

[I.D. 052506A]

RIN 0648-AT95

Fisheries in the Western Pacific; Omnibus Amendment for the Bottomfish and Seamount Groundfish Fisheries, Crustacean Fisheries, and Precious Coral Fisheries of the Western Pacific Region

AGENCY: National Marine Fisheries Service (NMFS), National Oceanic and Atmospheric Administration (NOAA), Commerce.

ACTION: Notice of availability of FMP amendments; request for comments.

SUMMARY: NMFS announces that the Western Pacific Fishery Management Council (WPFMC) proposes to amend three fishery management plans (western Pacific omnibus amendment) to include fisheries in waters around the Commonwealth of the Northern Mariana Islands (CNMI) and Pacific Remote Island Areas (PRIA). These amendments would establish new permitting and reporting requirements for vessel operators targeting bottomfish species around the PRIA to improve understanding of the ecology of these species and the activities and harvests of the vessel operators that target them. It would also establish new permitting and reporting requirements for vessel operators targeting crustacean species and precious coral around the CNMI and PRIA.

DATES: Comments on the amendment must be received by August 7, 2006.

ADDRESSES: Comments on the western Pacific omnibus amendment, identified by 0648-AT95, should be sent to any of the following addresses:

• E-mail: AT95Omnibus@noaa.gov. Include in the subject line of the e-mail comment the following document identifier “AT95 Omnibus.” Comments sent via e-mail, including all attachments, must not exceed a 5 megabyte file size.

• Federal e-Rulemaking portal: www.regulations.gov. Follow the instructions for submitting comments.

• Mail: William L. Robinson, Regional Administrator, NMFS, Pacific Islands Region (PIR), 1601 Kapiolani Boulevard, Suite 1110, Honolulu, HI 96814-4700.

Copies of the western Pacific omnibus amendment, the Environmental Assessment, and related analyses may be obtained from Kitty M. Simonds, Executive Director, WPFMC, 1164 Bishop Street, Suite 1400, Honolulu, HI 96813, or on the internet at www.wpcouncil.org.

FOR FURTHER INFORMATION CONTACT: Robert Harman, NMFS PIR, 808-944-2271.

SUPPLEMENTARY INFORMATION: The western Pacific omnibus amendment, developed by the WPFMC, has been submitted to NMFS for review under the Magnuson-Stevens Fishery Conservation and Management Act. This document announces that the amendment is available for public review and comment for 60 days. NMFS will consider public comments received during the comment period described above in determining whether to approve, partially approve, or disapprove the western Pacific omnibus amendment.

The Pacific Islands region encompasses Federal waters, i.e., the U.S. Exclusive Economic Zone (EEZ), around the Territories of Guam and American Samoa, the State of Hawaii, the CNMI, and the PRIA. The inner boundary of the EEZ is the seaward limit of each coastal state, commonwealth, territory and possession. The EEZ extends from this inner boundary to 200 nautical miles (nm) offshore.

The WPFMC has developed, and NMFS has approved and implemented, five fishery management plans covering pelagic species, crustaceans, bottomfish and seamount groundfish, precious corals, and coral reef ecosystems fisheries. Federal waters around the CNMI are currently not included in the Fishery Management Plans for the Bottomfish, Crustaceans, or Precious Corals Fisheries of the Western Pacific Region (Bottomfish FMP), Crustaceans FMP), and (Precious Corals FMP). Federal waters around the PRIAs are not included in the Bottomfish or Crustaceans FMP, except for Midway Atoll. Therefore, Federal fisheries management, including data collection, is limited for these areas. New fishery developments suggest to the WPFMC that the preliminary step of including these waters under the FMPs is necessary to facilitate further steps to monitor fish catches, and to implement other management measures if needed in the future. Amendment 8 to the Bottomfish FMP, Amendment 12 to the Crustaceans FMP, and Amendment 6 to the Precious Corals FMP would include the fisheries operating in these areas under the FMPs.

The omnibus amendment has the following objectives:

1. To improve the database for future bottomfish management decisions through data reporting requirements (Bottomfish FMP);

2. To collect and analyze biological and economic information about lobster fisheries and improve the statistical base for conservation and management in the future (Crustaceans FMP); and

3. To encourage the acquisition and analysis of new information concerning the distribution, abundance and ecology of precious corals (Precious Corals FMP).

After considering a wide range of management options, including many options suggested by the public during a public scoping process, the WPFMC recommended the following management measures.

CNMI Management Measures

1. Include the CNMI EEZ as a management area in the Bottomfish FMP, with regulations applied only to the offshore area (3 to 200 nm, again the EEZ around the CNMI extends from the shoreline to 200 nm, but the WPFMC recommends deferring regulatory control for fishing by CMNI citizens in waters 0 to 3 nm of the EEZ around CNMI; however, the FMP amendments do not confer authority to CNMI over EEZ resources), and with no new Federal permitting or reporting requirements;

2. Include the CNMI EEZ under the Crustaceans FMP, with regulations applied to the offshore area (3 to 200 nm), and include existing permit and reporting requirements; and

3. Include the CNMI EEZ in the Precious Corals FMP, with regulations applied to the offshore area (3 to 200 nm), and include existing exploratory area permit and reporting and quota requirements.

PRIA Management Measures

1. Include the PRIA EEZ (0-200 nm) in the Bottomfish FMP, and implement new Federal permitting and reporting requirements for all vessels targeting bottomfish management unit species; and

2. Include the PRIA EEZ under the Crustaceans FMP, and include existing Federal permitting and reporting requirements.

This action is designed to establish mechanisms to implement specific regulatory controls should the need arise; specific management measures (such as time and area closures, or effort and landing limits) are not included.

Public comments on the western Pacific omnibus amendment must be received by August 7, 2006, to be considered by NMFS in the decision to approve, partially approve, or disapprove the amendment. A proposed rule to implement the amendment has been submitted for Secretarial review and approval.

NMFS expects to publish and request public comment on the proposed regulation in the near future.

Authority: 16 U.S.C. 1801 et seq.

Dated: June 1, 2006.
Alan D. Risenhoover,
Acting Director, Office of Sustainable Fisheries, National Marine Fisheries Service.

[FR Doc. E6-8860 Filed 6-6-06; 8:45 am]

BILLING CODE 3510-22-S